COMMISSION ON CIVIL RIGHTS

Notice of Public Meetings of the Arkansas Advisory Committee

AGENCY: U.S. Commission on Civil Rights.

ACTION: Announcement of meeting.

SUMMARY: Notice is hereby given, pursuant to the provisions of the rules and regulations of the U.S. Commission on Civil Rights (Commission) and the Federal Advisory Committee Act that the Arkansas Advisory Committee (Committee) will hold a virtual (online) meeting Friday, April 1, 2022 at 1:00 p.m. Central Time. The purpose of the meeting is for the Committee to continue to discuss testimony regarding civil rights concerns related to IDEA compliance and implementation in Arkansas schools.

DATES: The meeting will be held on Friday, April 1, 2022 at 1 p.m. Central time.

Web Access (audio/visual): Register at: https://tinyurl.com/yc48wbh4.

Phone Access (audio only): 800-360-9505, Access Code 2764 637 4653.

FOR FURTHER INFORMATION CONTACT: Melissa Wojnaroski, Designated Federal Officer, at mwojnaroski@usccr.gov or (202) 618-4158.

SUPPLEMENTARY INFORMATION: Members of the public may join online or listen to this discussion through the above call-in number. An open comment period will be provided to allow members of the public to make a statement as time allows. Callers can expect to incur regular charges for calls they initiate over wireless lines, according to their wireless plan. The Commission will not refund any incurred charges. Individuals who are deaf, deafblind and hard of hearing may also follow the proceedings by first calling the Federal Relay Service at 1-800-877-8339 and providing the Service with the conference call number and conference ID number.

Members of the public are entitled to submit written comments; the comments must be received in the regional office within 30 days following the meeting. Written comments may be emailed to Melissa Wojnaroski at mwojnaroski@usccr.gov.

Records generated from this meeting may be inspected and reproduced at the Regional Programs Unit Office, as they become available, both before and after the meeting. Records of the meeting will be available via www.facadatabase.gov under the Commission on Civil Rights, Arkansas Advisory Committee link. Persons interested in the work of this Committee are directed to the Commission's website, http://www.usccr.gov, or may contact the Regional Programs Unit at the above email or street address.

Agenda

I. Welcome & Roll Call

III. Committee Discussion: IDEA Compliance and Implementation in Arkansas Schools

IV. Next Steps

V. Public Comment

VI. Adjournment

Dated: March 16, 2022,
David Mussatt,
Supervisory Chief, Regional Programs Unit.

[FR Doc. 2022-05987 Filed 3-21-22; 8:45 am]

BILLING CODE 6335-01-P